SELECTIVE SERVICE SYSTEM

Form Submitted to the Office of Management and Budget for Extension of Clearance

AGENCY: Selective Service System.

ACTION: Notice.

The following form has been submitted to the Office of Management and Budget (0MB) for extension of clearance in compliance with the Paperwork Reduction Act (44 U.S.C. Chapter 35):

SSS FORM—22

Title: Claim Documentation Form—Conscientious Objector.

Need and/or Use: The form will be used to document a claim for classification as a conscientious objector in the event that inductions into the Armed Forces are resumed.

Respondents: Registrants who claim to be conscientious objectors.

Burden: A burden of one hour per individual respondent.

Copies of the above identified form can be obtained upon written request to the Selective Service System, Reports Clearance Officer, 1515 Wilson Boulevard, Arlington, Virginia 22209-2425.

Written comments and recommendations for the proposed extension of clearance of the form should be sent within 30 days of the publication of this notice to the Selective Service System, Reports Clearance Officer, 1515 Wilson Boulevard, Arlington, Virginia 22209-2425.

A copy of the comments should be sent to the Office of Information and Regulatory Affairs, Attention: Desk Officer, Selective Service System, Office of Management and Budget, New Executive Office Building, Room 3235, Washington, DC 20503.

Dated: August 19, 2010.
Lawrence G. Romo,
Director.

[FR Doc. 2010-21416 Filed 8-27-10; 8:45 am]

BILLING CODE 8015-01-M